DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specific vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2025, through September 30, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three copies of the information with the Clerk of the United States Court of Federal Claims at the address listed above (under the heading For Further Information Contact), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Judith Danvers, Richmond, Virginia, Court of Federal Claims No: 25-1458V

2. Liana Shroyer, Cresson, Pennsylvania, Court of Federal Claims No: 25-1459V

3. Edward Phillips, Las Vegas, Nevada, Court of Federal Claims No: 25-1460V

4. Ashwani Chehal, Redmond, Washington, Court of Federal Claims No: 25-1462V

5. Alicia Fought, Traverse City, Michigan, Court of Federal Claims No: 25-1463V

6. Karen Ward, New York, New York, Court of Federal Claims No: 25-1464V

7. Cynthia Backer, Carmichael, California, Court of Federal Claims No: 25-1465V

8. Emma Barnes, Blue Springs, Missouri, Court of Federal Claims No: 25-1466V

9. Tammy Mitchell, Dresher, Pennsylvania, Court of Federal Claims No: 25-1467V

10. Destiny Knox, Charlotte, North Carolina, Court of Federal Claims No: 25-1471V

11. Ryan Middleton, Oklahoma City, Oklahoma, Court of Federal Claims No: 25-1474V

12. Adam Zaglaniczny, Niles, Illinois, Court of Federal Claims No: 25-1476V

13. Wendy White on behalf of the estate of Ronnie White, Deceased, New York, New York, Court of Federal Claims No: 25-1477V

14. Kandyce Green, Chicago, Illinois, Court of Federal Claims No: 25-1478V

15. Lisa Brown, Albuquerque, New Mexico, Court of Federal Claims No: 25-1479V

16. Glenn Watts, Sun City, Arizona, Court of Federal Claims No: 25-1484V

17. Irene Samano, Visalia, California, Court of Federal Claims No: 25-1486V

18. Joseph Clifton Thomas, Boone, North Carolina, Court of Federal Claims No: 25-1487V

19. Lindsey Hooper, Paramus, New Jersey, Court of Federal Claims No: 25-1490V

20. Linda Cote, Groton, Connecticut, Court of Federal Claims No: 25-1491V

21. David Brown, Oklahoma City, Oklahoma, Court of Federal Claims No: 25-1492V

22. Lisa Hale, Corpus Christi, Texas, Court of Federal Claims No: 25-1495V

23. Tasha Miller on behalf of G.M., Tampa, Florida, Court of Federal Claims No: 25-1497V

24. Brittany Goodwin, Durham, North Carolina, Court of Federal Claims No: 25-1499V

25. Shukri Robinson, Round Rock, Texas, Court of Federal Claims No: 25-1500V

26. Yvonne King, Washington, District of Columbia, Court of Federal Claims No: 25-1501V

27. Jermaine A. Lockhart, Waupun, Wisconsin, Court of Federal Claims No: 25-1502V

28. Dilshod Joraev, Philadelphia, Pennsylvania, Court of Federal Claims No: 25-1508V

29. Danielle Mann, Rio Rancho, New Mexico, Court of Federal Claims No: 25-1509V

30. Esther Moore, Dresher, Pennsylvania, Court of Federal Claims No: 25-1510V

31. Luis Duero, Valrico, Florida, Court of Federal Claims No: 25-1513V

32. Kimberly Johnson, Bessemer City, North Carolina, Court of Federal Claims No: 25-1514V

33. Jodi Holland on behalf of D.M.H.M., Rochester, Minnesota, Court of Federal Claims No: 25-1516V

34. Paula Karcher, Boston, Massachusetts, Court of Federal Claims No: 25-1517V

35. Angela Rosa, West Chester, Ohio, Court of Federal Claims No: 25-1518V

36. Isaiah Sessoms, Daytona Beach, Florida, Court of Federal Claims No: 25-1519V

37. Kathleen Fraser, Redding, California, Court of Federal Claims No: 25-1520V

38. Tena Smith, Oklahoma City, Oklahoma, Court of Federal Claims No: 25-1521V

39. David Watts, Austin, Texas, Court of Federal Claims No: 25-1523V

40. Kristen Pursley, Dallas, Texas, Court of Federal Claims No: 25-1525V

41. Belinda Rucker, Atlanta, Georgia, Court of Federal Claims No: 25-1526V

42. Eric Osking, Englewood, New Jersey, Court of Federal Claims No: 25-1527V

43. Alexis Gardiner, Wakefield, Rhode Island, Court of Federal Claims No: 25-1528V

44. Kathleen Huddleston, Royse City, Texas, Court of Federal Claims No: 25-1529V

45. Heather Byrd, Temple, Texas, Court of Federal Claims No: 25-1532V

46. Kenneth Dye, Jacksonville, Florida, Court of Federal Claims No: 25-1536V

47. Elizabeth Vanderploeg, Grand Rapids, Michigan, Court of Federal Claims No: 25-1537V

48. Laurie Henkes, Dresher, Pennsylvania, Court of Federal Claims No: 25-1539V

49. Christopher D. Smith, Fox Lake, Wisconsin, Court of Federal Claims No: 25-1541V

50. Jodi Klare, Middletown, Connecticut, Court of Federal Claims No: 25-1542V

51. Debra Mund, Fargo, North Dakota, Court of Federal Claims No: 25-1545V

52. Colleen Emanuel, Mankato, Minnesota, Court of Federal Claims No: 25-1546V

53. Kally Hopkins, Mora, Minnesota, Court of Federal Claims No: 25-1547V

54. Rebekah Brown, Chagrin Falls, Ohio, Court of Federal Claims No: 25-1548V

55. Rebecca Oakes, Dennison, Ohio, Court of Federal Claims No: 25-1549V

56. Jimmie Kelly, Washington, District of Columbia, Court of Federal Claims No: 25-1550V

57. Kristin Zook, Woodridge, Illinois, Court of Federal Claims No: 25-1553V

58. Christina Swim, Pittsburgh, Pennsylvania, Court of Federal Claims No: 25-1555V

59. Megan Griffin, Montclair, New Jersey, Court of Federal Claims No: 25-1556V

60. Diane Pealor, Washington, District of Columbia, Court of Federal Claims No: 25-1557V

61. Rebekah Brown, San Diego, California, Court of Federal Claims No: 25-1558V

62. Lora Ann Chittum, Celina, Ohio, Court of Federal Claims No: 25-1560V

63. Habib Amini, St. Paul, Minnesota, Court of Federal Claims No: 25-1562V

64. Tracey Sudo, Philadelphia, Pennsylvania, Court of Federal Claims No: 25-1563V

65. Michael Krause, Seattle, Washington, Court of Federal Claims No: 25-1564V

66. Cynthia Trice, Florissant, Missouri, Court of Federal Claims No: 25-1565V

67. Ruchma Moonsammy, Woonsocket, Rhode Island, Court of Federal Claims No: 25-1567V

68. Heather Marshall, Washington, District of Columbia, Court of Federal Claims No: 25-1568V

69. Sharon Woods, Boston, Massachusetts, Court of Federal Claims No: 25-1570V

70. Christine Melton, Wynnewood, Pennsylvania, Court of Federal Claims No: 25-1571V

71. Jessica Johnson, Grand Prairie, Texas, Court of Federal Claims No: 25-1572V

72. Peter Leung, Fremont, California, Court of Federal Claims No: 25-1574V

73. Ira Terrell, New York, New York, Court of Federal Claims No: 25-1576V

74. Allison Bonoff on behalf of A.B., Shelton, Connecticut, Court of Federal Claims No: 25-1577V

75. Lloyd Edwin Sellers, Fox Lake, Wisconsin, Court of Federal Claims No: 25-1578V

76. Timothy J. Block, Washington, District of Columbia, Court of Federal Claims No: 25-1579V

77. Toni Madrid, Livonia, Michigan, Court of Federal Claims No: 25-1580V

78. Monique L. Ross, Sewell, New Jersey, Court of Federal Claims No: 25-1582V

79. Nellie Hesseltine, Cincinnati, Ohio, Court of Federal Claims No: 25-1583V

80. Nicole Bakalis, Aurora, Illinois, Court of Federal Claims No: 25-1584V

81. Michael Hatcher, Black River Falls, Wisconsin, Court of Federal Claims No: 25-1585V

82. Juan Rodriguez, Woodridge, Illinois, Court of Federal Claims No: 25-1586V

83. Liat Broome, Chicago, Illinois, Court of Federal Claims No: 25-1588V

84. Amanda Ferguson, Tupelo, Mississippi, Court of Federal Claims No: 25-1589V

85. Silvia Guzman Olvera, West Covina, California, Court of Federal Claims No: 25-1591V

86. Erin Wilfer, Shenandoah, Texas, Court of Federal Claims No: 25-1592V

87. Robert Citero, Raleigh, North Carolina, Court of Federal Claims No: 25-1594V

88. Timothy Comperchio, Ann Arbor, Michigan, Court of Federal Claims No: 25-1599V

89. David Rosenthal, Plainsboro, New Jersey, Court of Federal Claims No: 25-1601V

90. Laura Norton, Woodridge, Illinois, Court of Federal Claims No: 25-1603V

91. Yvonne Numbia, Gainesville, Georgia, Court of Federal Claims No: 25-1605V

92. Feiwu Hu, Flushing, New York, Court of Federal Claims No: 25-1606V

93. Rory Garrett, Salt Lake City, Utah, Court of Federal Claims No: 25-1609V

94. Jennifer Killpack, Lehi, Utah, Court of Federal Claims No: 25-1611V

95. Mary Meadors on behalf of C.F., Indianapolis, Indiana, Court of Federal Claims No: 25-1612V

96. Kathleen Dalton, Latrobe, Pennsylvania, Court of Federal Claims No: 25-1613V

97. Tammy Moore, Woodridge, Illinois, Court of Federal Claims No: 25-1614V

98. Billy Folds, Opelika, Alabama, Court of Federal Claims No: 25-1615V

99. Devon Wilder, Black River Falls, Wisconsin, Court of Federal Claims No: 25-1616V

100. Renee Taylor, College Park, Maryland, Court of Federal Claims No: 25-1617V

101. Robert J. Palma, Englewood, New Jersey, Court of Federal Claims No: 25-1618V

102. Katherine Ravi, MD, Boston, Massachusetts, Court of Federal Claims No: 25-1620V

103. Daniel Hartley, Washington, District of Columbia, Court of Federal Claims No: 25-1621V

104. Barbara Arthur, Boston, Massachusetts, Court of Federal Claims No: 25-1622V

105. Karin Hampton, Greensboro, North Carolina, Court of Federal Claims No: 25-1624V

106. Renee Middleton, Charlston, South Carolina, Court of Federal Claims No: 25-1625V

107. Heather McBride, Wheeling, West Virginia, Court of Federal Claims No: 25-1627V

[FR Doc. 2026-01402 Filed 1-23-26; 8:45 am]

BILLING CODE 4165-15-P